DEPARTMENT OF TRANSPORTATION

Federal Railroad Administration

[Docket No. FRA-2001-8698]

Petition for Special Approval of Alternative Fuel Tank Safety Standard Petition for Waiver of Compliance

In accordance with Title 49 of the Code of Federal Regulations (CFR), part 238 (Passenger Equipment Safety Standards), and 49 CFR part 211 (Rules of Practice), notice is hereby given that the Federal Railroad Administration (FRA) has received a request captioned as a petition for special approval to use an alternative fuel tank safety standard. FRA is hereby providing the public an opportunity to comment on this petition.

As specified in 49 CFR part 238.223 (Locomotive fuel tanks), paragraph (a), external passenger locomotive fuel tanks must comply with safety requirements contained in appendix D to 49 CFR part 238, or an industry standard providing at least an equivalent level of safety if approved by FRA under 49 CFR part 238.21. The American Public Transportation Association (APTA) has petitioned FRA for special approval to use industry standard APTA SS-C&S-007-98 Rev. 1, Standard for Fuel Tank Integrity on Non-Passenger Carrying Passenger Locomotives, as an alternative standard to fulfill the requirements of 49 CFR part 238.223. APTA's petition, including a copy of APTA SS-C&S-007-98 Rev. 1 and a comparison of this standard to FRA's requirements specified in 49 CFR part 238.223, is available for public examination as explained below.

APTA's petition for special approval appears to encompass both the external passenger locomotive fuel tank safety standards in 49 CFR part 238.223, paragraph (a), and the internal passenger locomotive fuel tank safety standards specified in 49 CFR part 238.223, paragraph (b).

FRA notes that 49 CFR part 238.223, paragraph (b), does not expressly provide the opportunity to seek special approval of an alternative, internal fuel tank safety standard. Insofar as a portion of APTA's request relates to the internal fuel tank safety standard specified in 49 CFR part 238.223, paragraph (b), FRA will consider that portion of the request a request for a waiver of compliance to be evaluated under the requirements of 49 CFR part 211. Otherwise, FRA will evaluate APTA's request as a petition for special approval of an alternative, external locomotive fuel tank safety standard to be evaluated under the requirements of 49 CFR part 238.

Interested parties are invited to participate in this proceedings by submitting written views, data, or comments as to the safety of APTA's alternative fuel tank safety standard. FRA does not anticipate scheduling a public hearing in connection with this proceeding. If any interested party desires an opportunity for oral comment, he or she should notify FRA, in writing, before the end of the comment period and specify the basis for the request. All communications concerning this proceeding should identify the appropriate docket number, Docket Number FRA-2001-8698, and must be submitted to the DOT Docket Management Facility, Room PL-401 (Plaza Level), 400 Seventh Street SW., Washington, DC. 20590. Communications received within 30 days of the date of this notice will be considered by FRA before final action is 3 taken. Comments received after that date will be considered as far as practicable. All written communications concerning this proceeding are available for examination during regular business hours (9 a.m.-5 p.m.) at the above facility. All documents in the public docket are also available for inspection and copying on the Internet at the docket facility's Web site at http://dms.dot.gov.

Issued in Washington, DC on March 26, 2001.
Grady C. Cothen, Jr.,
Deputy Associate Administrator for Safety Standards and Program Development.

[FR Doc. 01-8433 Filed 4-5-01; 8:45 am]

BILLING CODE 4910-06-P